DEPARTMENT OF COMMERCE

Foreign-Trade Zones Board

(Docket 16-2007)

Foreign-Trade Zone 214 -- Lenoir County, North Carolina, Application for Expansion

An application has been submitted to the Foreign-Trade Zones (FTZ) Board (the Board) by the North Carolina Global TransPark Authority, grantee of FTZ 214, requesting authority to expand its zone to include an additional site in Rocky Mount adjacent to the Durham Customs and Border Protection port of entry. The application was submitted pursuant to the provisions of the Foreign-Trade Zones Act, as amended (19 U.S.C. 81a-81u), and the regulations of the Board (15 CFR part 400). It was formally filed on April 19, 2007.

FTZ 214 was approved on May 7, 1996 (Board Order 815, 61 FR 27048, 5/30/96) and expanded on August 14, 2003 (Board Order 1281, 68 FR 51965, 8/29/03). The general-purpose zone currently consists of two sites (1,205 acres) in the area: Site 1 (1,170 acres) -- Kinston Regional Jetport complex in Lenoir County; and, Site 2 (35 acres) -- warehouse facility of Kanban Logistics, Inc., 1114 Kingsboro Road, Rocky Mount.

The applicant is now requesting authority to expand the general-purpose zone to an additional site in Rocky Mount: Proposed Site 3 (84 acres total) -- two warehouse facilities of Crown LSP Group, Inc., located at 400 English Road (Proposed Site 3A - 56 acres) and located at 1201 Thorpe Road (Proposed Site 3B - 28 acres). The site is owned by AGREDE, LLC. The site will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is June 29, 2007. Rebuttal comments in response to material submitted during the foregoing period may be submitted during the subsequent 15-day period to July 16, 2007.

A copy of the application and accompanying exhibits will be available for public inspection at each of the following locations: Office of Carolinas Gateway Partnership, 427 Falls Road, Rocky Mount, NC 27804; and, Office of the Executive Secretary, Foreign-Trade Zones Board, Room 2814B, U.S. Department of Commerce, 1401 Constitution Avenue, NW, Washington, DC 20230.

For further information, contact Camille Evans at Camille_Evans@ita.doc.gov or (202) 482-2350.

Dated: April 19, 2007.
Andrew McGilvray,
Executive Secretary.

[FR Doc. E7-8206 Filed 4-27-07; 8:45 am]

BILLING CODE 3510-DS-S